DEPARTMENT OF AGRICULTURE

Forest Service

Helena National Forest, Lewis & Clark County, MT; North Belts Travel Plan

AGENCY: Forest Service, USDA.

ACTION: Notice of intent to prepare an environmental impact statement (EIS).

SUMMARY: The Helena National Forest is proposing a revision of the existing year-round travel management plan in the northern portion of the Big Belt Mountains and portions of the Dry Range on the Helena and Townsend Ranger Districts. This travel plan will include analysis on roads and trails regarding year-round and seasonal, open and closed motorized and non-motorized routes. In addition, potential travel corridors connecting roads and trails are being considered. This EIS will be prepared displaying the anticipated effects of the above activities to the resources and human uses of the analysis area. Closure methods will be identified and improvement projects to rehabilitate routes will be analyzed. The North Belts Travel Planning area includes about 190,000 acres from the Forest boundary north of the Gates of the Mountains Wilderness south to about the southern boundary of the Confederate Gulch drainage and portions of the Dry Range.

DATES: Comments concerning the scope of the analysis must be received by March 14, 2003. The draft EIS is expected April 2003 and the final EIS is expected April 2004.

ADDRESSES: Send written comments or for further information, mail correspondence to or call Beth Ihle—Team Leader, Townsend Ranger District, 415 S. Front, Townsend, MT 59644 (Phone 406-266-3425) or Chuck Neal—Travel Planner, 2880 Skyway Drive, Helena, MT 59601 (Phone 406-449-5201).

SUPPLEMENTARY INFORMATION:

History of Previous Efforts

Travel Plan efforts for the North Belts originally was initiated in 1997, which included vegetation management and noxious weed treatments. A draft EIS called the North Belts Travel Plan/Magpie-confederate Vegetation Restoration Project was issued in March 1999. Alternatives were developed addressing travel plan issues from public input. In the summer of 2000, a major fire burned over 29,000 acres within the North Belts analysis area creating a substantial change. Due to this changed condition, travel plan efforts were to be separated from the vegetation and noxious weed components of the 1999 draft EIS. Restoration of the burned over area followed by a Forest-wide Roads Analysis Plan took priority over travel management plans. This renewed effort has taken into consideration the changed conditions and change in management direction in regard to travel planning and has also considered and incorporated public input from the previous attempts. Opportunity for additional comments is presented in this process.

Purpose and Need for Action

The Helena National Forest has identified the need for the North Belts Travel Management Plan to address a variety of year-round motorized and non-motorized recreation uses as well as access for administrative and permitted uses and for private lands. These needs will be balanced while meeting needs for fish and wildlife habitats and soil and watershed health, and prevention of noxious weed spread as directed by the Helena Forest Plan.

Proposed Action

Features of the proposed action include the following elements:

1. Open or closed periods for routes are simplified to the following:

a. Yearlong open or closed,

b. October 15—December 1: closed for big-game security, and

c. December 2—May 15 open or closed for winter range.

Other closures will be managed as unique situations occur and will utilize special orders or other methods to respond to them, e.g. spring thaw.

2. Open and closed routes and areas are proposed for snowmobiles area. However, in big-game winter range, snowmobiles will be allowed on designated routes only.

3. As part of the process, users may help identify “corridors” where future construction could connect existing routes and provide specific kinds of recreational opportunities.

4. Proposal includes new road construction (about 1.5 miles) and new non-motorized trail construction (about .25 miles). In addition, trail and road reconstruction, and development of trailheads and information kiosks would be included in the proposal.

5. Four route types are included:

a. Roads open to vehicles meeting requirements of State laws,

b. Motorized trails open to vehicles 50 inches wide or less,

c. Non-motorized trails, and

d. Snowmobile use.

6. Site-specific road rehabilitation projects such as culvert replacement, correcting drainage problems and localized road relocations are included.

7. Vehicle access within 300 ft. of an open, designated road is allowed primarily to access dispersed camping sites, but also for other uses as long as it does not result in resource damage such as rutting of soils, hill climbing, noxious weed infestations, fording of streams, crossing of meadows, etc.

8. In lynx habitat, the proposal does not result in a net increase in designated over the snow routes and snowmobile play areas.

Responsible Official

Tom Clifford—Forest Supervisor, 2880 Skyway Drive, Helena, MT 59601.

Nature of Decision To Be Made

Whether or not to implement the proposed action or an alternative to the proposed action including the following decisions:

• Which areas, roads, and trails are appropriate for what types of public motorized and non-motorized travel,

• Which areas, roads, and trails should have seasonal restrictions to protect wildlife or other resources,

• What types of closures and/or rehabilitation methods should be used on year-round closed routes,

• What segments of new trail construction and new trailhead facilities are needed,

• Which road maintenacne and repairs are needed to address watershed issues,

• What type of access is needed to private ownership within the Forest boundary,

• Which new connector travel corridors would be included for future site-specfic analysis, and

• Whether or not Forest Plan amendment(s) would be required?

Scoping Process

• Pre-scoping contacts—February 6, 2003.

• Scoping package (mailing)—February 10, 2003.

• NOI—February 14, 2003.

• Post on website—February 14, 2003.

• DEIS Public Meetings—May/June 2003.

• DEIS Comment Period—April through September of 2003.

• FEIS and ROD—April 2004.

Comment Requested

This notice of intent initiates the scoping process which guides the development of the environmental impact statement. Comments are due by March 14, 2003.

A draft environmental impact statement will be prepared for comment. The comment period on the draft EIS is expected to be from mid-April through September of 2003. This date will be established when the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points. Comments received, including the names and addresses of those who comment, will be considered part of the public record on this proposal and will be available for public inspection.

(Authority: 40 CFR 1501.7 and 1508.22; Forest Service Handbook 1909.15, section 21.)
Dated: February 6, 2003.
Al Christophersen,
Deputy Forest Supervisor.

[FR Doc. 03-3550 Filed 2-13-03; 8:45 am]

BILLING CODE 3410-11-P